NATIONAL SCIENCE FOUNDATION

Notice of Intent To Seek Approval To Establish an Information Collection System

AGENCY: National Science Foundation.

ACTION: Notice and request for comments.

SUMMARY: Under the Paperwork Reduction Act of 1995, and as part of its continuing effort to reduce paperwork and respondent burden, the National Science Foundation (NSF) is inviting the general public or other Federal agencies to comment on this proposed continuing information collection.

DATES: Written comments on this notice must be received by February 21, 2017, to be assured consideration. Comments received after that date will be considered to the extent practicable. Send comments to address below.

ADDRESSES: Send comments to Ms. Suzanne H. Plimpton, Reports Clearance Officer, National Science Foundation, 4201 Wilson Boulevard, Suite 1265, Arlington, Virginia 22230; or via email to splimpto@nsf.gov.

FOR FURTHER INFORMATION CONTACT: Ms. Suzanne H. Plimpton, Reports Clearance Officer, National Science Foundation, 4201 Wilson Boulevard, Suite 1265, Arlington, Virginia 22230; telephone (703) 292-7556; or send email to splimpto@nsf.gov. Individuals who use a telecommunications device for the deaf (TDD) may call the Federal Information Relay Service (FIRS) at 1-800-877-8339, which is accessible 24 hours a day, 7 days a week, 365 days a year (including federal holidays).

SUPPLEMENTARY INFORMATION:

Comments: Comments are invited on: (a) Whether the proposed collection of information is necessary for the proper performance of the functions of the Foundation, including whether the information will have practical utility; (b) the accuracy of the Foundation's estimate of the burden of the proposed collection of information; (c) ways to enhance the quality, utility, and clarity of the information to be collected; and (d) ways to minimize the burden of the collection of information on those who are to respond, including through the use of automated collection techniques or other forms of information technology. Please submit one copy of your comments by only one method. All submissions received must include the agency name and collection name identified above for this information collection. Commenters are strongly encouraged to transmit their comments electronically via email. Comments, including any personal information provided, become a matter of public record. They will be summarized and/or included in the request for Office of Management and Budget approval of the information collection request.

Title of Collection: Innovation Corps (I-Corps) Teams Program Survey of Program Participants and NSF Principal Investigators.

OMB Number: 3145-NEW.

Type of request: Intent to seek approval to establish an information collection.

Abstract: In fiscal year 2011, NSF created the Innovation Corps (I-Corps) Teams Program to build a national innovation ecosystem by accelerating innovation among identified NSF-funded researchers. The I-Corps Teams Program provides training, mentoring, and a small grant to help project teams determine the readiness of their technology products for transition to commercialization. By design, I-Corps Teams are composed of one principal investigator (PI), an entrepreneurial lead (EL), and a local mentor. NSF's I-Corps Teams program model has been replicated in other Federal agencies that sponsor research, including the National Institutes of Health (NIH). NSF and NIH have a memorandum of understanding to cooperate in the implementation and monitoring of I-Corps at NIH.

As part of I-Corps, teams receive entrepreneurial training and ongoing support for the 6-month duration of the grant. The I-Corps support facilitates each team's entrepreneurial efforts. The grant requires I-Corps awardees to participate in an intensive immersion training on entrepreneurship (a 3-day opening workshop, 5 weeks of activities with online classes, and a 2-day final workshop). The training follows a structured approach to give team members hands-on experience in transferring knowledge into commercial products. NSF tracks I-Corps Teams' progress, as they are expected to hit milestones for the duration of the training and throughout the 6-month grant period. Additionally, NSF monitors I-Corps Teams' project outcomes after the grant period, with longitudinal surveys conducted with I-Corps Teams at two future intervals, time 1, at least one year after the end of the training, and time 2, at least one year after time 1. To date, only time 1 longitudinal surveys have been conducted.

This notice supports NSF's efforts to monitor and evaluate the I-Corps Teams program at NSF and NIH. It is a follow up to a previously approved data collection request related to I-Corps. NSF previously received clearance for two longitudinal surveys of I-Corps team members after the completion of the program to continuously track entrepreneurial outcomes [Federal Register Vol. 80 No. 25, February 06, 2015 pages 6773-6774, OMB clearance number 3145-0238, expiration date: April 30, 2018]. NSF is seeking to modify the survey instrument approved for the second longitudinal survey, administered at time 2.

Additionally, NSF is also reaffirming its intent to conduct a survey of NSF PIs who did not participate in I-Corps. This intent was previously published in a Federal Register notice on December 04, 2015 [Volume 80, number 233 pages 75881-75882]. This survey of additional PIs supports a rigorous longitudinal outcome/impact evaluation of the I-Corps Team Program using a quasi-experimental design to understand I-Corps impact on teams that go through the program and its impact on team members and academic culture.

This information collection request relates to: (1) A revision to previously cleared survey instrument for I-Corps team participants; (2) a similar survey instrument for PIs in comparable non-I-Corps NSF projects; and (3) a proposed instrument for in-depth interviews with 10 I-Corps and 10 comparable non-I-Corps teams (including institutional support personnel). The survey instrument for the non-I-Corps PIs is modeled after the content of the I-Corps longitudinal time 2 instrument to enable a direct comparison of outputs and outcomes. For the most part, it replaces specific references to I-Corps training and the I-Corps project that was the focus of commercial exploration with references to any other training and NSF project that was the focus of commercial exploration.

The survey of non-I-Corps PIs will begin with an initial screening module to identify those who have received support for projects with commercial potential and who have desire to act on that potential but have not received an I-Corps grant. PIs with non-I-Corps NSF-funded projects awarded between 2009 and 2013 will be surveyed. PIs who reported active interest in commercial potential for their research projects will be asked to complete an additional module adapted from the I-Corps Longitudinal Data Collection already approved by OMB for I-Corps team members. PIs not interested in the commercial potential of their research will stop the survey after completing the screening module. The surveys will be administered online.

In addition to the comparison between the I-Corps teams and a comparable group based on survey results, the study also includes in-depth interviews to gain an understanding of the influence of participation in the I-Corps program on PIs (and/or other active team members) as well as to compare the impact of the I-Corps program on industry collaborations and other networking activities. Half of all in-depth interviews will be conducted over the phone while the other half will take place during site visits to the home institutions of the teams selected for the study.

Affected Public: NSF and NIH I-Corps grantees, including PIs, Entrepreneurial Leads and Mentors (or individuals taking equivalent formal roles in the teams) and non-I-Corps Grant recipients of NSF Programs.

Total Respondents: 6,222 (survey of NSF/NIH I-Corps grantee team members and non-I-Corps NSF PIs) and 160 (in-depth interviews with I-Corps and non-I-Corps PIs, their teams and support personnel).

Frequency: One-time collection.

Total responses: 5,422 (non-I-Corps screener questions only), 1,342 (longitudinal survey instrument for I-Corps teams and non-I-Corps NSF PIs), and 160 (in-depth interviews).

Average Time per response: 3 minutes (screener questions), 15 minutes (longitudinal survey instrument), and 60 minutes (in-depth interview).

Estimated Total Burden Hours: 817 hours.

Authority: Pub. L. 104-13 (44 U.S.C. 3501 et seq.).

Dated: December 16, 2016.
Suzanne H. Plimpton,
Reports Clearance Officer, National Science Foundation.

[FR Doc. 2016-30804 Filed 12-21-16; 8:45 am]

BILLING CODE 7555-01-P